DEPARTMENT OF COMMERCE

National Oceanic and Atmospheric Administration

50 CFR Part 660

[Docket No. 050426117-5117-01; I.D. 031406F]

Fisheries Off West Coast States and in the Western Pacific; West Coast Salmon Fisheries; Inseason Action - #1 - Adjustment of the Commercial and Recreational Fisheries from Cape Falcon, Oregon, to Point Sur, California

AGENCY: National Marine Fisheries Service (NMFS), National Oceanic and Atmospheric Administration (NOAA), Commerce.

ACTION: Temporary rule; closure; request for comments.

SUMMARY: NMFS announces the closure of several commercial and recreational fisheries in areas extending from Cape Falcon, OR, to Point Sur, CA by inseason action. The recently developed preseason forecast for Klamath River fall Chinook (KRFC) is low such that the expected return in 2006 is significantly less than the 35,000 natural spawner escapement floor established in the Pacific Coast Salmon Fishery Management Plan (FMP). All other regulations remain in effect as announced in the 2005 annual management measures for ocean salmon fisheries. This action is necessary to conform to the conservation objectives specified in the FMP.

DATES: Openings scheduled for commercial salmon fisheries in the Newport, Coos Bay, OR, Klamath Management Zone (KMZ), and Fort Bragg, CA, management areas identified below are closed effective 0001 hours local time (l.t.) March 15, 2006, until 2359 hours l.t., on April 30, 2006. The recreational salmon fisheries scheduled to open in the San Francisco, CA, management area, and in the area from Pigeon Point to Point Sur, CA, effective 0001 hours l.t., April 1, 2006, until 2359 hours l.t., April 30, 2006 are closed. The recreational fishery opening in the area from Point Sur, CA, to the U.S.-Mexico Border will open as scheduled on April 1, 2006. Comments must be received no later than April 4, 2006.

ADDRESSES: Comments on these actions must be mailed to D. Robert Lohn, Regional Administrator, Northwest Region, NMFS, NOAA, 7600 Sand Point Way N.E., Bldg. 1, Seattle, WA 98115-0070; or faxed to 206-526-6376; or Rod McInnis, Regional Administrator, Southwest Region, NMFS, NOAA, 501 W. Ocean Blvd., Suite 4200, Long Beach, CA 90802-4132; or faxed to 562-980-4018. Comments can also be submitted via e-mail at the 2006salmonIA1.nwr@noaa.gov address, or through the internet at the Federal eRulemaking Portal: http://www.regulations.gov. Follow the instructions for submitting comments, and include [docket number and/or RIN number] in the subject line of the message. Information relevant to this document is available for public review during business hours at the Office of the Regional Administrator, Northwest Region, NMFS.

FOR FURTHER INFORMATION CONTACT: Peter Dygert, 206-526-6734.

SUPPLEMENTARY INFORMATION: In the 2005 annual management measures for ocean salmon fisheries (70 FR 23054, May 4, 2005), NMFS announced management measures for the commercial salmon fishery in the areas from Cape Falcon to Florence South Jetty, OR (Newport), Florence South Jetty to Humbug Mountain, OR (Coos Bay), Humbug Mountain to the Oregon-California Border (Oregon KMZ), and Horse Mountain, CA to Point Arena, CA (Fort Bragg). For each of these areas the management measures specified that: “In 2006, the season will open March 15 for all salmon expect coho, with a 27-inch (68.6-cm) Chinook minimum size limit.” Management measures for recreational fisheries in the areas from Point Arena to Pigeon Point, CA (San Francisco) and from Pigeon Point to the U.S.-Mexico Border specified that: “In 2006, the season will open April 1 for all salmon except coho, two fish per day (C.1), Chinook minimum size limit 20 inches (50.8 cm) total length (B), and the same gear restrictions as in 2005 (C.2, C.3).” Exact boundaries of these areas are described in the 2005 management measures cited below.

Information related to the status of KRFC became available in February 2006 and was considered at the March Council meeting. The conservation objective for KRFC requires a return of 33-34 percent of potential adult spawners, but no fewer that 35,000 naturally spawning adults, be achieved in any one year. The preseason forecast for KRFC indicates that, if the ocean fishery is closed between Cape Falcon, OR and Point Sur, CA through August 2006, and the tribal and recreational fisheries in the Klamath River are closed for the remainder of the year, the expected number of natural area adult spawners would be approximately 29,000. Under the Salmon FMP a “conservation alert” is triggered when a stock is projected to fall below its conservation objective. Under such circumstances the Council is required to close salmon fisheries within Council jurisdiction that impact the stock.

The escapement of KRFC also fell below the 35,000-escapement floor in 2004 and 2005. The FMP provides that an “overfishing concern” is triggered if postseason estimates indicate that a natural stock has failed to achieve its conservation objective in three consecutive years. If KRFC fail to meet the 35,000 fish escapement floor in 2006, as indicated by postseason estimates that will become available early next year, an overfishing concern would be triggered, and the Council would be required to complete a formal review within one year and develop an associated rebuilding plan.

Late season ocean fisheries that occur from September to November are expected to catch immature KRFC, some of which would spawn in the following year. Late season fisheries occurred in 2005 consistent with the 2005 management measures, but caught more KRFC than anticipated. The estimated late season catch of KRFC in 2005 was approximately 6,100. Council fisheries are managed to achieve 50:50 tribal:non-tribal sharing of adult harvest. Despite the fact that the forecast now available indicates that the run size is such that the escapement floor will not be met in 2006, some non-tribal ocean catch has already occurred, as explained above, and there will likely be additional harvest by the tribes targeting their allocation. Any additional harvest in ocean fisheries would further reduce the run size and provide further expectations for tribal catch.

The Regional Administrator consulted with the Council, including representation of the Oregon Department of Fish and Wildlife and California Department of Fish and Game, during the March 2006 Council meeting. Information related to the status of KRFC and catch to date indicated that restricting the fisheries scheduled to occur before May 1 was necessary to avoid further reductions in the escapement of KRFC that were already projected to return below the 35,000-fish spawning escapement floor. Based on the available information, the Council recommended that the commercial and recreational salmon fisheries described above be closed by inseason action, and the Regional Administrator concurred with the Council's recommendation. The states manage the fisheries in state waters adjacent to the areas of the U.S. exclusive economic zone consistent with these Federal actions. As provided by the inseason notice procedures of 50 CFR 660.411, actual notice to fishers of the previously described action was given, prior to the date the action was effective, by telephone hotline number 206-526-6667 and 800-662-9825, and by U.S. Coast Guard Notice to Mariners broadcasts on Channel 16 VHF-FM and 2182 kHz.

This action does not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of this action was provided to fishers through telephone hotline and radio notification. This action complies with the requirements of the annual management measures for ocean salmon fisheries (70 FR 23054, May 4, 2005), the FMP, and regulations implementing the FMP 50 CFR 660.409 and 660.411. Prior notice and opportunity for public comment was impracticable because NMFS and the state agencies had insufficient time to provide for prior notice and the opportunity for public comment between the time information regarding the projected escapement of KRFC and the estimates of the impacts of the scheduled March and April fisheries on the KRFC were available to the fishery managers and March 15, when the fishery closures had to be effective in order to prevent the additional KRFC harvest. The AA also finds good cause to waive the 30-day delay in effectiveness required under U.S.C. 553(d)(3), as a delay in effectiveness of these actions would result in further reductions to the spawning escapement of KRFC that are already expected to return below the 35,000 fish spawning escapement floor.

This action is authorized by 50 CFR 660.409 and 660.411 and is exempt from review under Executive Order 12866.

Authority: 16 U.S.C. 1801 et seq.

Dated: March 15, 2006.
James P. Burgess,
Acting Director, Office of Sustainable Fisheries, National Marine Fisheries Service.

[FR Doc. 06-2654 Filed 3-15-06; 2:06 pm]

BILLING CODE 3510-22-S